DEPARTMENT OF THE INTERIOR

National Park Service

National Museum of African American History and Culture Plan for Action Presidential Commission; Meeting

AGENCY: National Park Service, Interior.

ACTION: Notice of meeting.

Notice is hereby given in accordance with the Federal Advisory Committee Act, 5 U.S.C. appendix, that the National Museum of African American History and Culture Plan for Action Presidential Commission will meet March 24 and 25, 2003, in the Atrium Ballroom of The Washington Court Hotel, 525 New Jersey Avenue, NW., Washington, DC. On March 24, the Commission will convene at 8 a.m., e.s.t., and adjourn at 5:15 p.m., e.s.t. March 25, the Commission will convene at 8 a.m., e.s.t., and adjourn at 1:30 p.m., e.s.t.

On March 24, the Commission will receive and deliberate reports from its Executive Committee and Committees on Mission, Role and Vision with Program and Collections; Site and Building; Governance and Organization; Fundraising, Finance and Budget; and Legislation and Public Relations.

On March 25, the Commission will consider procedural matters relative to completing its report to the President and the Congress.

Due to the unexpected cancellation of the original meeting space and the additional time required to make alternate arrangements, this notice could not be published at least 15 days prior to the meeting date. The National Park Service regrets this delay, but is compelled to hold the meeting as scheduled because of the significant sacrifice rescheduling would require of Board members who have adjusted their schedules to accommodate the proposed meeting date.

The Commission meeting is open to the public. Space and facilities to accommodate the public are limited and attendees will be accommodated on a first-come basis.

Assistance to Individuals With Disabilities at the Public Meeting

The meeting site is accessible to individuals with disabilities. If you plan to attend and will need an auxiliary aid or service to participate in the meeting (e.g., interpreting service, assistive listening device, or materials in an alternative format), notify the contact person listed in this notice at least two weeks (2 weeks) before the scheduled meeting date. Attempts will be made to meet any request(s) we receive after that date, however we may not be able to make the requested auxiliary aid or service available because of insufficient time to arrange for it.

Anyone may file with the Commission a written statement concerning the establishment of the National Museum for African American History and Culture. The Commission may also permit attendees to address the assembled Commission, but may restrict the length of the presentations, as necessary to allow the Commission to complete its agenda within the allotted time.

Anyone who wishes further information concerning the meeting, or who wishes to submit a written statement, may contact George S. McDonald, Project Manager, National Museum of African American History and Culture Plan for Action Presidential Commission, National Park Service, U.S. Department of the Interior, 1849 C Street, NW., Washington, DC 20240, telephone (202) 208-4227.

Draft minutes of the meeting will be available for public inspection approximately 12 weeks after the meeting, in room 2012, Main Interior Building, 1849 C Street, NW., Washington, DC.

Dated: March 5, 2003.
George S. McDonald,
Project Manager, Staff to the National Museum of African American History and Culture Plan for Action Presidential Commission.

[FR Doc. 03-6881 Filed 3-21-03; 8:45 am]

BILLING CODE 4310-70-P